DEPARTMENT OF AGRICULTURE

Food and Nutrition Service

Agency Information Collection Activities: Proposed Collection; Comment Request—Federal Claims Collection Methods for Supplemental Nutrition Assistance Program Recipient Claims

AGENCY: Food and Nutrition Service, USDA.

ACTION: Notice.

SUMMARY: In accordance with the Paperwork Reduction Act of 1995, this notice invites the general public and other public agencies to comment on proposed information collections. This collection is a revision of a currently approved collection associated with initiating and conducting Federal collection actions against households with delinquent Supplemental Nutrition Assistance Program (SNAP, formerly known as the Food Stamp Program) recipient debts.

DATES: Written comments must be submitted on or before October 19, 2009.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

Send comments to Jane Duffield, Chief, State Administration Branch, Supplemental Nutrition Assistance Program, Food and Nutrition Service, USDA, 3101 Park Center Drive, Room 818, Alexandria, Virginia 22302. Comments may also be submitted via fax to the attention of Jane Duffield at 703-605-0795. Comments will also be accepted through the Federal eRulemaking Portal. Go to http://www.regulations.gov and follow the online instructions for submitting comments electronically.

All written comments will be open for public inspection at the office of the Food and Nutrition Service, U.S. Department of Agriculture, 3101 Park Center Drive, Alexandria, Virginia 22302, Room 818.

All comments will be summarized and included in the request for Office of Management and Budget approval of the information collection. All comments will become a matter of public record.

FOR FURTHER INFORMATION CONTACT: Michael Rowe at (703) 305-2480.

SUPPLEMENTARY INFORMATION: Title: Federal Claims Collection Methods for Supplemental Nutrition Assistance Program Recipient Claims.

OMB Number: 0584-0446.

Form Number: None.

Expiration Date: December 31, 2009.

Type of Request: Revision of a currently approved collection.

Abstract: Section 13(b) of the Food and Nutrition Act of 2008, as amended (7 U.S.C. 2022(b)), and Supplemental Nutrition Assistance Program (SNAP) regulations at 7 CFR 273.18 require State agencies to refer delinquent debtors for SNAP benefit over-issuance to the U.S. Department of the Treasury for collection. The Debt Collection Improvement Act of 1996, 31 U.S.C. 3701, et seq., requires these debts to be referred to Treasury for collection when they are 180 days or more delinquent. Through the Treasury Offset Program (TOP), 31 CFR Part 285, payments such as Federal income tax refunds, Federal salaries and other Federal payments payable to these delinquent debtors will be offset and the amount applied to the delinquent debt. TOP places a reporting burden on State agencies and Individuals/Households (former SNAP recipients) who owe delinquent debts as detailed in the following charts.

We are basing our estimate on an average of the number of records for claims the States sent to TOP for calendar years 2006, 2007 and 2008.

Table 1—Reporting for Individuals or Households
Reporting burden per activity | (b) Form No. | (c) Number of respondents | (d) Number of responses per respondent | (e) Estimated total annual responses (c×d) | (f) Hours per response | (g) Total burden hours (e×f)
Reading State issued notice | N/A | 253,671 | 1 | 253,671 | .0835 | 21,181.528
Reading FNS issued letter to Federal employees | N/A | 3,000 | 1 | 3,000 | .0835 | 250.5
Phone inquiries and informal appeals for State notice | N/A | 17,757 | 1 | 17,757 | .25 | 4,439.25
Phone Inquires and informal appeals for FNS letter | N/A | 900 | 1 | 900 | .25 | 225
Formal appeals to State | N/A | 1,522 | 1 | 1,522 | .5 | 761
Formal appeals to FNS | N/A | 20 | 1 | 20 | .5 | 10
Summary of Reporting Burden |  | ¹ 253,671 | 1.09 | 276,870 |  | 26,867.278
¹ I/H counted once.

Table 2—Reporting for State Agencies
Reporting burden per activity | (b) Form No. | (c) Number of respondents | (d) Number of responses per respondent | (e) Estimated total annual responses (c×d) | (f) Hours per response | (g) Total burden hours (e×f)
State agency notice production | N/A | 53 | 4,786.2452 | 253, 671 | .0167 | 4,236.3057
Responding to phone inquiries and informal appeals for State notice | N/A | ¹53 | 335.03773 | 17,757 | .25 | 4,439.25
Responding to formal appeals to State | N/A | 53 | 28.716981 | 1,522 | .5 | 761
Providing documents for formal appeals to FNS | N/A | 53 | 0.3773584 | 20 | .5 | 10
Submit yearly certification letter | N/A | 53 | 1 | 53 | .5 | 26.5
System accountability file | N/A | 53 | 1 | 53 | 11.5 | 609.5
Address file | N/A | 53 | 8 | 424 | 1.6346 | 693.0704
Match/No match report | N/A | 53 | 8 | 424 | 6.5 | 2,756
Testing New system | N/A | 5 | 1 | 5 | 7 | 35
State agency profile | N/A | 53 | 1 | 53 | 0.25 | 13.25
Weekly Files | N/A | 53 | 52 | 2,756 | 1.5 | 4,134
Weekly files—Post data | N/A | 53 | 52 | 2,756 | 1.5 | 4,134
Summary of Reporting Burden |  | ¹ 53 | 5,273.4716 | 279,494 |  | 21,847.875
¹ States counted once.

The current reporting burden for individuals/households and State governments is 380,053 respondents and 68,921 hours. The proposed reporting burden, totaled from Tables 1 and 2, is 253,724 respondents and 48,715.153 hours. This reduction of 20,205.847 reporting hours is due to a combination of fewer notices being mailed by States and acted on by individuals/households; a decrease in required documents and activities for State governments; and, changes due to agency adjustments.

TOP places a recordkeeping burden on State governments which is contained in the following Table 3. There is no recordkeeping burden for individuals and households.

Table 3—Recordkeeping for State Agencies
Recordkeeping burden per activity | (b) Form No. | (c) Number of respondents | (d) Number of responses per respondent | (e) Estimated total annual responses (c×d) | (f) Hours per response | (g) Total burden hours (e×f)
Weekly Files | N/A | 53 | 52 | 2,756 | 0.25 | 689
Summary of Recordkeeping Burden |  | ¹ 53 | 52 | 2,756 |  | 689
¹ States counted once.

The current recordkeeping burden is based on 53 respondents and 530 burden hours. The proposed burden is for 53 respondents and 689 hours. This represents an increase of 159 recordkeeping hours due to the way that responses are considered with a corresponding reduction in the time per response.

Dated: August 11, 2009.
Julia Paradis,
Administrator, Food and Nutrition Service.

[FR Doc. E9-19721 Filed 8-19-09; 8:45 am]

BILLING CODE 3410-30-P